DEPARTMENT OF THE INTERIOR

National Park Service

[NPS-WASO-NAGPRA-NPS0030338; PPWOCRADN0-PCU00RP14.R50000]

Notice of Inventory Completion: The Field Museum of Natural History, Chicago, IL

AGENCY: National Park Service, Interior.

ACTION: Notice.

SUMMARY: The Field Museum of Natural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Field Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Field Museum of Natural History at the address in this notice by July 10, 2020.

ADDRESSES: Helen Robbins, Field Museum of Natural History, 1400 S Lake Shore Drive, Chicago, IL 60605, telephone (312) 665-7317, email hrobbins@fieldmuseum.org.

SUPPLEMENTARY INFORMATION: Notice is here given in accordance with the Native American Graves Protection and Repatriation Act (NAGPRA), 25 U.S.C. 3003, of the completion of an inventory of human remains and associated funerary objects under the control of the Field Museum of Natural History, Chicago, IL. The human remains and associated funerary objects were removed from sites on the Hopi Reservation in Navajo and Coconino Counties, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals, number of associated funerary objects, and cultural affiliation reported in two previously published notices: Notice of Inventory Completion (75 FR 45659-45660, August 3, 2010); and corrected Notice of Inventory Completion (82 FR 20610-20611, May 3, 2017). This notice replaces both the original Notice of Inventory Completion of August 3, 2010 and the corrected Notice of Inventory Completion of May 3, 2017. It was discovered during the deaccession process for repatriation that the number of associated funerary objects and minimum number of individuals had been inadvertently misreported in the published notices. Additional information received during later research and consultation resulted in a change to the determination of cultural affiliation for the site of Payupki. Transfer of control of the items in this notice has not occurred.

Consultation

A detailed assessment of the human remains was made by the Field Museum of Natural History professional staff in consultation with representatives of the Hopi Tribe of Arizona and the Pueblo of Sandia, New Mexico.

History and Description of the Remains

In 1900 and 1901, human remains representing, at minimum, 303 individuals were removed from sites on the Hopi Reservation in Navajo and Coconino Counties, AZ, by Charles Owen. They were removed from the sites of Awatobi, First Mesa, Burned Corn House, Chukubi, Payupki, Shongopovi, Kishuba, Sikyatki, Mishongovi, Old Mishongovi, and Old Walpi as well as unknown sites. The human remains were accessioned into the Field Museum of Natural History as part of accessions 709, 769, and 780. No known individuals were identified. The 179 associated funerary objects are 32 ceramic jars, 53 bowls, 29 pots, 18 ladles, six mugs, six vessels, 10 bahos, two beads, three stone figures, six stone slabs, five faunal remains, two seeds, two pipes, one shell ornament, one ear pendant, one colander, one lot of paint, and one lithic flake.

The human remains have been identified as Native American based on the burial context and the specific cultural and geographic attribution in Field Museum of Natural History records. All of the human remains were identified as “Hopi” and were removed from sites on the Hopi Indian Reservation, AZ. “Hopi” descendants from the Hopi Indian Reservation are represented by the present-day Hopi Tribe of Arizona.

The site of Payupki was recorded in Charles Owen's notes as being founded in 1680 by people from the “Rio Grande district” who lived there for a few generations before returning from where they had come. Based on academic literature and oral tradition, these people were the ancestors of the Pueblo of Sandia, New Mexico. Therefore, the one set of human remains and one associated funerary object (one lithic flake) from Payupki are affiliated to the Hopi Tribe of Arizona as well as the Pueblo of Sandia, New Mexico.

Determinations Made by the Field Museum of Natural History

Officials of the Field Museum of Natural History have determined that:

• Pursuant to 25 U.S.C. 3001(9), the human remains described in this notice represent the physical remains of 303 individuals of Native American ancestry.

• Pursuant to 25 U.S.C. 3001(3)(A), the 179 objects described in this notice are reasonably believed to have been placed with or near individual human remains at the time of death or later as part of the death rite or ceremony.

• Pursuant to 25 U.S.C. 3001(2), there is a relationship of shared group identity that can be reasonably traced between the Native American human remains and associated funerary objects from the sites of Awatobi, First Mesa, Burned Corn House, Chukubi, Shongopovi, Kishuba, Sikyatki, Mishongovi, Old Mishongovi, and Old Walpi and the Hopi Tribe of Arizona.

• Pursuant to 25 U.S.C. 3001(2), there is a relationship of shared group identity that can be reasonably traced between the Native American human remains and associated funerary object from the site of Payupki and the Hopi Tribe of Arizona and the Pueblo of Sandia, New Mexico.

Additional Requestors and Disposition

Lineal descendants or representatives of any Indian Tribe or Native Hawaiian organization not identified in this notice that wish to request transfer of control of these human remains and associated funerary objects should submit a written request with information in support of the request to Helen Robbins, Field Museum of Natural History, 1400 S Lake Shore Drive, Chicago, IL 60605, telephone (312) 665-7317, email hrobbins@fieldmuseum.org, by July 10, 2020. After that date, if no additional requestors have come forward, transfer of control of the human remains and associated funerary objects to the Hopi Tribe of Arizona and the Pueblo of Sandia, New Mexico may proceed.

The Field Museum of Natural History is responsible for notifying the Hopi Tribe of Arizona and the Pueblo of Sandia, New Mexico that this notice has been published.

Dated: May 13, 2020.
Melanie O'Brien,
Manager, National NAGPRA Program.

[FR Doc. 2020-12549 Filed 6-9-20; 8:45 am]

BILLING CODE 4312-52-P